DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending July 27, 2013. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0145.

Date Filed: July 24, 2013.

Due Date for Answers, Conforming Applications, or Motion To Modify Scope: August 14, 2013.

Description: Application of Comlux Aruba N.V. (“Comlux Aruba”) requesting a foreign air carrier permit and an exemption authorizing Comlux Aruba to conduct the following services: (a) Foreign charter air transportation of persons, property, and mail between any point or points in Aruba and any point or points in the United States, and between any point or points in the United States and any point or points in any third country or countries, provided that, except with respect to cargo charters, such service constitutes part of a continuous operation, with or without change of aircraft, that includes service to Aruba for purpose of carrying local traffic between Aruba and the United States; (b) and other charters pursuant to the prior approval requirements set forth in the Department's regulations governing charters.

Barbara J. Hairston,
Acting Program Manager, Docket Operations, Federal Register Liaison.

[FR Doc. 2013-20010 Filed 8-15-13; 8:45 am]

BILLING CODE 4910-9X-P